DEPARTMENT OF TRANSPORTATION

Federal Aviation Administration

14 CFR Part 39

[Docket No. FAA-2006-24951; Directorate Identifier 2005-NM-184-AD]

RIN 2120-AA64

Airworthiness Directives; Gulfstream Model GV and GV-SP Series Airplanes

AGENCY: Federal Aviation Administration (FAA), Department of Transportation (DOT).

ACTION: Notice of proposed rulemaking (NPRM).

SUMMARY: The FAA proposes to adopt a new airworthiness directive (AD) for certain Gulfstream Model GV and GV-SP series airplanes. This proposed AD would require repairing the force link assembly wire harness. This proposed AD results from a report indicating that the wiring harness outer shield and insulation on the primary conductors may have been inadvertently cut due to an improper method used to remove the wiring outer jacket. We are proposing this AD to prevent the loss of the hardover prevention system (HOPS) in the roll axis due to a short circuit in the wiring harness, which could result in reduced controllability of the airplane.

DATES: We must receive comments on this proposed AD by July 21, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Gulfstream Aerospace Corporation, Technical Publications Dept., P.O. Box 2206, Savannah, Georgia 31402-2206, for the service information identified in this proposed AD.

FOR FURTHER INFORMATION CONTACT: Darby Mirocha, Aerospace Engineer, Systems and Equipment Branch, ACE-119A, FAA, Atlanta Aircraft Certification Office, One Crown Center, 1895 Phoenix Boulevard, suite 450, Atlanta, Georgia 30349; telephone (770) 703-6095; fax (770) 703-6097.

SUPPLEMENTARY INFORMATION:

Comments Invited

We invite you to submit any relevant written data, views, or arguments regarding this proposed AD. Send your comments to an address listed in the ADDRESSES section. Include the docket number “FAA-2006-24951; Directorate Identifier 2005-NM-184-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

While installing an aileron force link assembly during the production of a Model GIV-X series airplane, a technician noticed that the wiring harness outer shield and insulation on the primary conductors were cut. The cuts did not appear to sever the electrical wire core, but the potential for severed wires prompted an investigation by the force link supplier. The investigation revealed that an improper method had been used to remove the wiring outer jacket on approximately 221 affected force links. If this condition causes the hardover prevention system (HOPS) to fire inadvertently, the HOPS would shut down the hydraulics system in that axis, increasing pilot workload. Also, an electrical short circuit in the wiring harness could result in loss of the HOPS in the roll axis, and consequent reduced controllability of the airplane.

Relevant Service Information

We have reviewed Gulfstream G500 Customer Bulletin 14 and G550 Customer Bulletin 14 (for Model GV-SP series airplanes), and Gulfstream GV Customer Bulletin 135 (for Model GV series airplanes), all dated June 23, 2005. The customer bulletins describe procedures for repairing the force link assembly wire harness. The repair includes installing new wiring, visually inspecting the seal around the wires for nicks and other damage, and visually inspecting the mating ends of the connectors to ensure the contacts are properly inserted. Accomplishing the actions specified in the service information is intended to adequately address the unsafe condition.

The Gulfstream customer bulletins include Vought Service Bulletin SB-VAIGV/GVSP-27-PG0098, dated May 9, 2005, as an additional source of service information for the repair.

FAA's Determination and Requirements of the Proposed AD

We have evaluated all pertinent information and identified an unsafe condition that is likely to exist or develop on other airplanes of this same type design. For this reason, we are proposing this AD, which would require accomplishing the actions specified in the service information described previously, except as discussed below.

Clarification of Proposed Repair Requirements

The service bulletins do not provide corrective action for nicks or other damage found during the inspection of the environmental seal around the installed wires. This proposed AD would require operators to repair those conditions using a method approved by the FAA.

Costs of Compliance

There are about 99 airplanes of the affected design in the worldwide fleet. The following table provides the estimated costs for U.S. operators to comply with this proposed AD.

Estimated Costs
Work hours | Average labor rate per hour | Parts | Cost per airplane | Number of U.S.-registered airplanes | Fleet cost
3 | $80 | The manufacturer states that it will supply required parts to the operators at no cost | $240 | 77 | $18,480

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Gulfstream Aerospace Corporation: Docket No. FAA-2006-24951; Directorate Identifier 2005-NM-184-AD.

Comments Due Date

(a) The FAA must receive comments on this AD action by July 21, 2006.

Affected ADs

(b) None.

Applicability

(c) This AD applies to the following Gulfstream Aerospace Corporation airplanes, certificated in any category:

Table 1.—Applicability
Model | Serial Nos.
GV series airplanes | 674 through 693 inclusive.
GV-SP series airplanes | 5001 through 5072 inclusive.

Unsafe Condition

(d) This AD results from a report indicating that the wiring harness outer shield and insulation on the primary conductors may have been inadvertently cut due to an improper method used to remove the wiring outer jacket. We are issuing this AD to prevent the loss of the hardover prevention system (HOPS) in the roll axis due to a short circuit in the wiring harness of the aileron force link assembly, which could result in reduced controllability of the airplane.

Compliance

(e) You are responsible for having the actions required by this AD performed within the compliance times specified, unless the actions have already been done.

Repair

(f) Within 12 months after the effective date of this AD, repair the force link assembly wire harness by doing all actions specified in the Accomplishment Instructions of the applicable service information identified in Table 2 of this AD, except as required by paragraph (g) of this AD.

Table 2.—Service Information
For model— | Use—
GV-SP series airplanes | Gulfstream G500 Customer Bulletin 14, dated June 23, 2005.
GV-SP series airplanes | Gulfstream G550 Customer Bulletin 14, dated June 23, 2005.
GV series airplanes | Gulfstream GV Customer Bulletin 135, dated June 23, 2005.

Note 1: The Gulfstream customer bulletins identified in Table 2 of this AD include Vought Service Bulletin SB-VAIGV/GVSP-27-PG0098, dated May 9, 2005, as an additional source of service information for the repair.

Exception to Service Bulletin Specifications

(g) During the inspection of the environmental seal around the installed wires required by paragraph (f) of this AD: If any nick or other damage is found, repair before further flight using a method approved by the Manager, Atlanta Aircraft Certification Office (ACO), FAA. For a repair method to be approved by the Manager, Atlanta ACO, as required by this paragraph, the Manager's approval letter must specifically refer to this AD.

Alternative Methods of Compliance (AMOCs)

(h)(1) The Manager, Atlanta ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on May 26, 2006.
Jeffrey E. Duven,
Acting Manager, Transport Airplane Directorate, Aircraft Certification Service.

[FR Doc. E6-8711 Filed 6-5-06; 8:45 am]

BILLING CODE 4910-13-P